DEPARTMENT OF COMMERCE

Foreign-Trade Zones Board

[Docket 29-2003]

Foreign-Trade Zone 70—Detroit, MI; Application for Subzone, Wacker Chemical Corporation (Silicone and Ceramics Products), Adrian, MI

An application has been submitted to the Foreign-Trade Zones Board (the Board) by the Greater Detroit Foreign-Trade Zone, Inc., grantee of FTZ 70, requesting special-purpose subzone status for the manufacturing and warehousing facilities of Wacker Chemical Corporation (Wacker), located in Adrian, Michigan. The application was submitted pursuant to the provisions of the Foreign-Trade Zones Act, as amended (19 U.S.C. 81a-81u), and the regulations of the Board (15 CFR part 400). It was formally filed on June 18, 2003.

The Wacker facility (236 acres, 600 employees) is located at 3301 Sutton Road, Adrian, Michigan. The facility will be used for the manufacturing and warehousing of silicone and ceramics products including heat curable rubber, liquid silicone rubber, sealants and adhesives, antifoam and release agents, paint raw materials, paper release coatings, textile finishings and silicone raw materials (HTS 2526.20, 2811.22, 2931.00, 3206.49, 3208.90, 3209.90, 3214.10, 3214.90, 3403.91, 3403.99, 3405.40, 3405.90, 3815.90, 3824.90, 3825.69, 3910.00, 8547.90, duty rate ranges from duty-free to 7.6%). Components and materials sourced from abroad (representing 70% of all parts consumed in manufacturing) include: silicon dioxide; chlorides and chloride oxides; silicates; cerium compounds; carbides, ketones and quinines; palmitic acid; stearic acid, their salts and esters; acyclic polycarboxylic acids, their anhydrides, halides, peroxides, peroxyacids, and their derivatives; esters of other inorganic acids of non-metals; organo-inorganic compounds; pigments; glazier's putty, grafting putty, resin cements, caulking compounds and other mastics; painters' fillings; nonionic organic sulfur-active agents; preparations for the treatment of textile materials; lubricating preparations; anti-microbial agents; prepared rubber accelerators; reaction initiators; prepared binders for foundry molds or cores; silicones; and glass fibers (HTS 2811.22, 2812.10, 2839.90, 2846.10, 2849.90, 2914.50, 2915.70, 2917.19, 2920.90, 2931.00, 3206.19, 3206.20, 3206.49, 3214.10, 3214.90, 3402.13, 3403.91, 3403.99, 3808.90, 3812.30, 3815.90, 3824.90, 3910.00, 4819.10 and 7019.11, duty rate ranges from duty-free to 7.8%).

FTZ procedures would exempt Wacker from Customs duty payments on the foreign components used in export production. Some 7 percent of the plant's shipments are exported. On its domestic sales, Wacker would be able to choose the duty rates during Customs entry procedures that apply to silicone and ceramics products (duty-free to 7.6%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230. The closing period for their receipt is August 25, 2003. Rebuttal comments in response to material submitted during the foregoing period may be submitted during the subsequent 15-day period (to September 9, 2003).

A copy of the application and accompanying exhibits will be available for public inspection at the Office of the Foreign-Trade Zones Board's Executive Secretary at the first address listed above, and at the U.S. Department of Commerce Export Assistance Center, 211 W. Fort St., Suite 2220, Detroit, MI 48226.

Dated: June 18, 2003.
Dennis Puccinelli,
Executive Secretary.

[FR Doc. 03-16220 Filed 6-25-03; 8:45 am]

BILLING CODE 3510-DS-P